ENVIRONMENTAL PROTECTION AGENCY

[EPA-HQ-OPPT-2013-0459; FRL 9912-36-OEI]

Information Collection Request Submitted to OMB for Review and Approval; Comment Request; Request for Contractor Access to TSCA Confidential Business Information (Renewal)

AGENCY: Environmental Protection Agency (EPA).

ACTION: Notice.

SUMMARY: EPA has submitted the following information collection request (ICR) to the Office of Management and Budget (OMB) for review and approval in accordance with the Paperwork Reduction Act (44 U.S.C. 3501 et seq.): Request for Contractor Access to TSCA Confidential Business Information (CBI) (EPA ICR No. 1250.10, OMB Control No. 2070-0075). EPA did not receive any comments in response to the previously provided public review opportunity issued in the Federal Register on November 29, 2013 (78 FR 71603). With this submission, EPA is providing an additional 30 days for public comments. An Agency may not conduct or sponsor and a person is not required to respond to a collection of information unless it displays a currently valid OMB control number.

DATES: Comments must be submitted on or before July 28, 2014.

ADDRESSES: Submit your comments, referencing Docket ID Number EPA-HQ-OPPT-2013-0459, to (1) EPA online using http://www.regulations.gov (our preferred method), by email to oppt.ncic@epa.gov or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Pamela Myrick, Deputy Director, Environmental Assistance Division, Office of Pollution Prevention and Toxics, Mail code: 7408-M, Environmental Protection Agency, 1200 Pennsylvania Ave. NW., Washington, DC 20460; telephone number: 202-554-1404; fax number: 202-564-8251; email address: TSCA-Hotline@epa.gov.

SUPPLEMENTARY INFORMATION: Docket: The ICR, which explains in detail the information collection activities and the related burden and cost estimates, is summarized in this document and is available in the docket for this ICR. The docket can be viewed online at http://www.regulations.gov or in person at the EPA Docket Center, EPA West, Room 3334, 1301 Constitution Ave. NW., Washington, DC. The telephone number for the Docket Center is 202-566-1744. For additional information about EPA's docket, visit http://www.epa.gov/dockets.

ICR Title: Request for Contractor Access to TSCA Confidential Business Information (CBI).

ICR numbers: EPA ICR No. 1250.10, OMB Control No. 2070-0075.

ICR status: The current OMB approval for this ICR is scheduled to expire on June 30, 2014. Under OMB regulations, the Agency may continue to conduct or sponsor the collection of information while this submission is pending at OMB.

Abstract: Certain employees of companies working under contract to EPA require access to CBI collected under the authority of TSCA in order to perform their official duties. The Office of Pollution Prevention and Toxics (OPPT), which is responsible for maintaining the security of TSCA confidential business information, requires that all individuals desiring access to TSCA CBI obtain and annually renew official clearance to TSCA CBI. As part of the process for obtaining TSCA CBI clearance, OPPT requires certain information about the contracting company and about each contractor employee requesting TSCA CBI clearance, primarily the name, EPA badge number or other identification of the employee, the type of TSCA CBI clearance requested and the justification for such clearance, and the signature of the employee to an agreement with respect to access to and use of TSCA CBI. This collection addresses the above information requirements.

Respondents may claim all or part of a notice confidential. EPA will disclose information that is covered by a claim of confidentiality only to the extent permitted by, and in accordance with, the procedures in TSCA section 14 and 40 CFR part 2.

Respondents/affected entities: Entities potentially affected by this action are companies under contract to the Environmental Protection Agency to provide certain services, whose employees must have access to Toxic Substances Control Act (TSCA) confidential business information to perform their duties.

Respondent's obligation to respond: Voluntary. Failure to provide the requested information, however, will prevent a contractor employee from obtaining clearance to TSCA CBI.

Estimated number of respondents: 20 (total).

Frequency of response: On occasion.

Total estimated burden: 483 hours per year. Burden is defined at 5 CFR 1320.3(b).

Total estimated cost: $25,875 per year, includes $0 annualized capital or operation and maintenance costs.

Changes in the estimates: There is a decrease of 118 hours (from 601 hours to 483 hours) in the burden estimated for this request compared with the information request most recently approved by OMB. This decrease reflects EPA's reduction in the estimated number of contractor employees needing clearance. This change is an adjustment.

Spencer W. Clark,
Acting Director, Collection Strategies Division.

[FR Doc. 2014-14888 Filed 6-25-14; 8:45 am]

BILLING CODE 6560-50-P